NATIONAL SCIENCE FOUNDATION

Sunshine Act Meetings

The National Science Board's ad hoc Committee on Nominating the NSB Class of 2024-2030 hereby gives notice of the scheduling of a teleconference for the transaction of National Science Board business pursuant to the NSF Act and the Government in the Sunshine Act.

TIME AND DATE: Wednesday, March 29, 2023, from 8:00-9:00 a.m. EDT.

PLACE: This meeting will be via videoconference through the National Science Foundation, 2415 Eisenhower Avenue, Alexandria, VA 22314.

STATUS: Closed.

MATTERS TO BE CONSIDERED: The agenda is: To provide the ad hoc committee with a general overview of the NSB nominations process, determine the desired attributes for the NSB class of 2024-2030, and discuss the renomination procedures for members of the NSB class of 2018-2024.

CONTACT PERSON FOR MORE INFORMATION: Point of contact for this meeting is: Chris Blair, cblair@nsf.gov, 703/292-7000. Meeting information and updates may be found at www.nsf.gov/nsb.

Christopher Blair,
Executive Assistant to the National Science Board Office.

[FR Doc. 2023-06197 Filed 3-21-23; 4:15 pm]

BILLING CODE 7555-01-P